DEPARTMENT OF ENERGY

Federal Energy Regulatory Commission

Notice Announcing New Freedom of Information Act and Critical Energy Infrastructure Information Email Addresses

On October 8, 2023, the Commission will discontinue utilization and access of the Commission's email address, for Freedom of Information Act (FOIA) requests and Critical Energy Infrastructure Information (CEII) requests, foia-ceii@ferc.gov. As of October 8, 2023, requesters should use the following email addresses:

1. foia@ferc.gov for FOIA requests; and

2. ceii@ferc.gov for CEII requests.

The Commission's FOIA and CEII web pages will be updated to reflect these changes.

In addition, the Department of Justice's Office of Information Policy, which is responsible for overseeing FOIA compliance, will be timely notified of these programmatic changes.

Please direct questions to Carolyn Templeton, Director—Strategic Operations and Special Projects; Office of External Affairs, at carolyn.templeton@ferc.gov or at 202-502-8785.

Dated: September 8, 2023.
Kimberly D. Bose,
Secretary.

[FR Doc. 2023-19882 Filed 9-13-23; 8:45 am]

BILLING CODE 6717-01-P